DEPARTMENT OF STATE

[Public Notice 7469]

U.S. Department of State Advisory Committee on Private International Law (ACPIL)—Online Dispute Resolution (ODR) Study Group Meeting

The Office of Private International Law, Office of the Legal Adviser, Department of State, hereby gives notice that the ACPIL Online Dispute Resolution (ODR) Study Group will hold a public meeting on Friday, January 20, 2012 from 10 a.m. to 1 p.m. EDT. The ACPIL ODR Study Group will meet to discuss the results of the November 2011 session of the UNCITRAL ODR Working Group as well as planning for the next session of that Working Group, scheduled for May 28 through June 1, 2012 in New York City.

The UNCITRAL ODR Working Group is charged with the development of legal instruments for resolving both business to business and business to consumer cross-border electronic commerce disputes. The Working Group has been considering, inter alia, ODR procedural rules for resolution of cross-border electronic commerce disputes.

For the report of the first three sessions of the UNCITRAL ODR Working Group—December 13-17, 2010 in Vienna (A/CN.9/716); May 23-27, 2011 in New York (A/CN.9/721); and November 14-18, 2011 in Vienna (A/CN.9/739)—please follow the following link: http://www.uncitral.org/uncitral/commission/working_groups/3Online_Dispute_Resolution.html

Time and Place: The public meeting will take place at the Office of Private International Law, Department of State, Washington, DC in the second floor conference room, Room 240, State Annex 4, South Building, Navy Hill. Participants should appear by 9:30 a.m. at the 23rd and D Street, NW. gate to the Navy Hill compound, so that you can be escorted to the office. If you are unable to attend the public meeting and would like to participate from a remote location, teleconferencing will be available.

Public Participation: This study group meeting is open to the public, subject to the capacity of the meeting room. Access to the building is controlled; persons wishing to attend should contact Tricia Smeltzer or Niesha Toms of the Office of Private International Law at SmeltzerTK@state.gov or TomsNN@state.gov and provide your name, address, date of birth, citizenship, driver's license or passport number, email address, and mailing address to get admission into the meeting. Persons who cannot attend but who wish to comment are welcome to do so by email to Michael Dennis at DennisMJ@state.gov. A member of the public needing reasonable accommodation should advise those same contacts not later than January 13th. Requests made after that date will be considered, but might not be able to be fulfilled. If you are unable to attend the public meeting and you would like to participate by teleconferencing, please contact Tricia Smeltzer (202) 776-8423 or Niesha Toms at (202) 776-8420 to receive the conference call-in number and the relevant information.

Dated: January 6, 2012.
Michael Dennis,
Attorney-Adviser, Office of Private International Law, Office of the Legal Adviser, Department of State.

[FR Doc. 2012-490 Filed 1-11-12; 8:45 am]

BILLING CODE 4710-28-P